ENVIRONMENTAL PROTECTION AGENCY

40 CFR Part 52

[EPA-R07-OAR-2018-0211; FRL 9977-27-Region 7]

Air Plan Approval; Missouri; Regional Haze Plan and Prong 4 (Visibility) for the 2012 PM2.5, 2010 NO2, 2010 SO2, and 2008 Ozone NAAQS

AGENCY: Environmental Protection Agency (EPA).

ACTION: Proposed rule.

SUMMARY: The Environmental Protection Agency (EPA) is proposing to take three actions regarding the Missouri State Implementation Plan (SIP). The three SIP actions relate to how Missouri addresses transport as related to visibility and the 2012 Fine Particulate Matter (PM2.5), 2010 Nitrogen Dioxide (NO2), 2010 Sulfur Dioxide (SO2), and 2008 Ozone National Ambient Air Quality Standards (NAAQS). EPA is proposing approval of the portion of Missouri's September 5, 2014, Five-year Progress Report for the State of Missouri Regional Haze Plan and a subsequently submitted letter dated July 31, 2017, which clarifies that the state was changing from reliance on the Clean Air Interstate Rule (CAIR) to reliance on the Cross State Air Pollution Rule (CSAPR) for certain regional haze requirements; convert EPA's limited approval/limited disapproval of Missouri's regional haze plan to a full approval; and approve the states' submissions addressing the Clean Air Act (CAA or the Act) provisions that prohibit emissions activity in one state from interfering with measures to protect visibility in another state (prong 4) of Missouri's infrastructure SIP submittals for the 2012 Fine Particulate Matter (PM2.5), 2010 Nitrogen Dioxide (NO2), and 2010 Sulfur Dioxide (SO2) NAAQS.

DATES: Comments must be received on or before June 4, 2018.

ADDRESSES: Submit your comments, identified by Docket ID No EPA-R07-OAR-2018-0211 to https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www2.epa.gov/dockets/commenting-epa-dockets.

FOR FURTHER INFORMATION CONTACT: Tracey Casburn, Environmental Protection Agency, Air Planning and Development Branch, 11201 Renner Boulevard, Lenexa, Kansas 66219 at (913) 551-7016, or by email at casburn.tracey@epa.gov.

SUPPLEMENTARY INFORMATION: Throughout this document “we,” “us,” and “our” refer to EPA. This section provides additional information by addressing the following:

I. Background Information

A. Regional Haze SIPs and Their Relationship With CAIR and CSAPR

B. Infrastructure SIPs

II. What are the prong 4 requirements?

III. What is EPA's analysis of how Missouri addressed prong 4 and regional haze?

IV. Proposed Action

V. Statutory and Executive Order Reviews

I. Background Information

A. Regional Haze SIPs and Their Relationship With CAIR and CSAPR

Section 169A(b)(2)(A) of the CAA requires states to submit regional haze SIPs that contain such measures as may be necessary to make reasonable progress towards the natural visibility goal at Class 1 areas, including a requirement that certain categories of existing major stationary sources built between 1962 and 1977 procure, install, and operate BART as determined by the state. Under the Regional Haze Rule (RHR), adopted in 1999, states are directed to conduct BART determinations for such “BART-eligible” sources that may be anticipated to cause or contribute to visibility impairment in a Class I area.¹ Rather than requiring source-specific BART controls, states also have the flexibility to adopt an emissions trading program or other alternative program as long as the alternative provides greater reasonable progress towards improving visibility than BART.² EPA provided states with this flexibility in the 1999 RHR, and further refined the criteria for assessing whether an alternative program provides for greater reasonable progress in two subsequent rulemakings.³

¹ See 64 FR 35714 (July 1, 1999).

² See 40 CFR 51.308(e)(2).

³ See 70 FR 39104 (July 6, 2005) and 71 FR 60612 (October 13, 2006).

EPA demonstrated that CAIR would achieve greater reasonable progress than BART in revisions to the RHR made in 2005.⁴ In those revisions, EPA amended its regulations to provide that states participating in the CAIR cap-and-trade programs pursuant to an EPA-approved CAIR SIP or states that remain subject to a CAIR Federal Implementation Plan (FIP) need not require affected BART-eligible electric generating units (EGUs) to install, operate, and maintain BART for emissions of SO2 and nitrogen oxides (NOX). As a result of EPA's determination that CAIR was “better-than-BART,” a number of states in the CAIR region, including Missouri, relied on the CAIR cap-and-trade programs as an alternative to BART for EGU emissions of SO2 and NOX in designing their regional haze SIPs. These states also relied on CAIR as an element of a long-term strategy (LTS) for achieving reasonable progress. However, in 2008, the United States Court of Appeals for the District of Columbia Circuit (DC Circuit) remanded CAIR to EPA, which it did without vacatur to preserve the environmental benefits provided by CAIR.⁵ On August 8, 2011, acting on the DC Circuit's remand, EPA promulgated CSAPR to replace CAIR and issued FIPs to implement the rule in CSAPR-subject states.⁶ Implementation of CSAPR was scheduled to begin on January 1, 2012, when CSAPR would have superseded the CAIR program.

⁴ CAIR created regional cap-and-trade programs to reduce SO2 and NOX emissions in 27 eastern states (and the District of Columbia), including Alabama, that contributed to downwind nonattainment or interfered with maintenance of the 1997 8-hour ozone NAAQS or the 1997 PM2.5 NAAQS. See 70 FR 39104.

⁵ North Carolina v. EPA, 550 F.3d 1176, 1178 (DC Cir. 2008).

⁶ CSAPR requires 28 eastern states to limit their statewide emissions of SO2 and/or NOX in order to mitigate transported air pollution unlawfully impacting other states' ability to attain or maintain four NAAQS: The 1997 ozone NAAQS, the 1997 annual PM2.5 NAAQS, the 2006 24-hour PM2.5 NAAQS, and the 2008 8-hour ozone NAAQS. The CSAPR emissions limitations are defined in terms of maximum statewide “budgets” for emissions of annual SO2, annual NOX, and/or ozone-season NOX by each covered state's large EGUs. The CSAPR state budgets are implemented in two phases of generally increasing stringency, with the Phase 1 budgets applying to emissions in 2015 and 2016 and the Phase 2 budgets applying to emissions in 2017 and later years. See 76 FR 48208.

Due to the DC Circuit's 2008 ruling that CAIR was “fatally flawed” and its resulting status as a temporary measure following that ruling, EPA could not fully approve regional haze SIPs to the extent that they relied on CAIR to satisfy the EGU BART requirement. On these grounds, EPA finalized a limited disapproval of Missouri's regional haze SIP on June 7, 2012, triggering the requirement for EPA to promulgate a FIP unless Missouri submitted, and EPA approved, a SIP revision that corrected the deficiency.⁷ EPA finalized a limited approval of Missouri's regional haze SIP on June 26, 2012, as meeting the remaining applicable regional haze requirements set forth in the CAA and the RHR.⁸

⁷ See 77 FR 33642. EPA finalized limited disapprovals of fourteen states' regional haze SIP submissions that relied on CAIR in this action, including Missouri's.

⁸ See 77 FR 38007.

In the June 7, 2012 limited disapproval action, EPA also amended the RHR to provide that participation by a state's EGUs in a CSAPR trading program for a given pollutant—either a CSAPR federal trading program implemented through a CSAPR FIP or an integrated CSAPR state trading program implemented through an approved CSAPR SIP revision—qualifies as a BART alternative for those EGUs for that pollutant.⁹ ¹⁰ Since EPA promulgated this amendment, numerous states covered by CSAPR have come to rely on the provision through either SIPs or FIPs.¹¹

⁹ See 40 CFR 51.308(e)(4).

¹⁰ Legal challenges to the CSAPR-Better-than-BART rule from state, industry, and other petitioners are pending. Utility Air Regulatory Group v. EPA, No. 12-1342 (D.C. Cir. filed August 6, 2012).

¹¹ EPA has promulgated FIPs relying on CSAPR participation for BART purposes for Georgia, Indiana, Iowa, Kentucky, Michigan, Missouri, Ohio, Pennsylvania, South Carolina, Tennessee, Virginia, and West Virginia, 77 FR at 33654, and Nebraska, 77 FR 40150, 40151 (July 6, 2012). EPA has approved Minnesota's and Wisconsin's SIPs relying on CSAPR participation for BART purposes. See 77 FR 34801, 34806 (June 12, 2012) for Minnesota and 77 FR 46952, 46959 (August 7, 2012) for Wisconsin.

Numerous parties filed petitions for review of CSAPR in the DC Circuit, and on August 21, 2012, the court issued its ruling, vacating and remanding CSAPR to EPA and ordering continued implementation of CAIR.¹² The DC Circuit's vacatur of CSAPR was reversed by the United States Supreme Court on April 29, 2014, and the case was remanded to the DC Circuit to resolve remaining issues in accordance with the high court's ruling.¹³ On remand, the DC Circuit affirmed CSAPR in most respects, but invalidated without vacating some of the CSAPR budgets as to a number of states.¹⁴ The remanded budgets include the Phase 2 SO2 emissions budgets for Alabama, Georgia, South Carolina, and Texas and the Phase 2 ozone-season NOX budgets for eleven states. This litigation ultimately delayed implementation of CSAPR for three years, from January 1, 2012, when CSAPR's cap-and-trade programs were originally scheduled to replace the CAIR cap-and-trade programs, to January 1, 2015. Thus, the rule's Phase 2 budgets that were originally promulgated to begin on January 1, 2014, began on January 1, 2017.

¹² EME Homer City Generation, L.P. v. EPA, 696 F.3d 7, 38 (DC Cir. 2012).

¹³ EPA v. EME Homer City Generation, L.P., 134 S. Ct. 1584 (2014).

¹⁴ EME Homer City Generation, L.P. v. EPA, 795 F.3d 118 (DC Cir. 2015).

On November 10, 2016, EPA published a notice of proposed rulemaking (NPRM) explaining the Agency's belief that the potentially material changes to the scope of CSAPR coverage resulting from the DC Circuit's remand will be limited to the withdrawal of the FIP provisions providing SO2 and annual NOX budgets for Texas and ozone-season NOX budgets for Florida. This is due, in part, to EPA's approval of the portion of Alabama's October 26, 2015, SIP submittal adopting Phase 2 annual NOX and SO2 budgets equivalent to the Federally-developed budgets and to commitments from Georgia and South Carolina to submit SIP revisions adopting Phase 2 annual NOX and SO2 budgets equal to or more stringent than the Federally-developed budgets.¹⁵ Since publication of the NPRM, Georgia and South Carolina have submitted these SIP revisions to EPA.¹⁶ In the NPRM, EPA also proposed to determine that the limited changes to the scope of CSAPR coverage do not alter EPA's conclusion that CSAPR remains “better-than-BART”; that is, that participation in CSAPR remains available as an alternative to BART for EGUs covered by the trading programs on a pollutant-specific basis. On September 21, 2017, Administrator Pruitt signed the final action, “Interstate Transport of Fine Particulate Matter: Revision of Federal Implementation Plan Requirements for Texas.” In this action, the agency removed Texas from CSAPR and affirmed the continued validity of the Agency's 2012 determination that participation in CSAPR meets the Regional Haze Rule's criteria for an alternative to the application of source-specific BART.

¹⁵ See 81 FR 78954.

¹⁶ Georgia's rulemaking to adopt the Phase 2 annual NOX and SO2 budgets became state effective on July 20, 2017, and the State will submit a SIP revision to EPA in the near future. South Carolina submitted a SIP revision to EPA for parallel processing on May 26, 2017, to adopt the Phase 2 annual NOX and SO2 budgets and that action was finalized by EPA in October 2017. See 82 FR 47936.

On July 31, 2017, the State of Missouri submitted a letter to EPA clarifying that the state had intended its Five-year Progress Report to revise its regional haze SIP to rely on its participation in the CSAPR trading programs for NOX and SO2 to satisfy the requirements of 40 CFR 51.308(d)(3) and 51.308(e) with respect to emissions of NOX and SO2 from electric generating units, pursuant to the option provided in 40 CFR 51.308(e)(4) (the “CSAPR-better-than-BART” provision). This letter has been added to the docket for this action and to the docket for the original action approving the Five-year progress report (EPA-R07-OAR-2015-0581).

EPA was not aware, at the time it approved Missouri's Five-year Progress Report, that the state intended that submission to also serve as a SIP revision substituting reliance on CAIR with reliance on CSAPR pursuant to 40 CFR 51.308(e)(4). With this understanding, we are now proposing to take an additional action on Missouri's Five-year Progress Report and to approve that submission, in conjunction with the clarification letter, as satisfying the SO2 and NOX requirements in 40 CFR 51.308(d)(3) and (e) for EGUs formerly subject to CAIR. If EPA finalizes this proposal, we would also convert the limited approval/limited disapproval of Missouri's regional haze plan to a full approval.

B. Infrastructure SIPs

By statute, SIPs meeting the requirements of sections 110(a)(1) and (2) of the CAA are to be submitted by states within three years (or less, if the Administrator so prescribes) after promulgation of a new or revised NAAQS to provide for the implementation, maintenance, and enforcement of the new or revised NAAQS. EPA has historically referred to these SIP submissions, which are made for satisfying the requirements of sections 110(a)(1) and 110(a)(2), as “infrastructure SIP” submissions. Sections 110(a)(1) and (2) require states to address basic SIP elements such as for monitoring, basic program requirements, and legal authority that are designed to assure attainment and maintenance of the newly established or revised NAAQS. More specifically, section 110(a)(1) provides the procedural and timing requirements for infrastructure SIPs. Section 110(a)(2) lists specific elements that states must meet for the infrastructure SIP requirements related to a newly established or revised NAAQS. The contents of an infrastructure SIP submission may vary depending upon the data and analytical tools available to the state, as well as the provisions already contained in the state's implementation plan at the time at which the state develops and submits the submission for a new or revised NAAQS.

Section 110(a)(2)(D) has two components: 110(a)(2)(D)(i) and 110(a)(2)(D)(ii). Section 110(a)(2)(D)(i) includes four distinct components, commonly referred to as “prongs,” that must be addressed in infrastructure SIP submissions. The first two prongs, which are codified in section 110(a)(2)(D)(i)(I), are provisions that prohibit any source or other type of emissions activity in one state from contributing significantly to nonattainment of the NAAQS in another state (prong 1) and from interfering with maintenance of the NAAQS in another state (prong 2). The third and fourth prongs, which are codified in section 110(a)(2)(D)(i)(II), are provisions that prohibit emissions activity in one state from interfering with measures required to prevent significant deterioration of air quality in another state (prong 3) or from interfering with measures to protect visibility in another state (prong 4). Section 110(a)(2)(D)(ii) requires SIPs to include provisions ensuring compliance with sections 115 and 126 of the Act, relating to interstate and international pollution abatement.

Through this action, EPA is proposing to approve the prong 4 portion of Missouri's infrastructure SIP submissions for the 2010 1-hour NO2, 2010 1-hour SO2, and 2012 annual PM2.5 NAAQS. All other applicable infrastructure SIP requirements for these SIP submissions have been or will be addressed in separate rulemakings. A brief background regarding the NAAQS relevant to this proposal is provided below. For comprehensive information on these NAAQS, please refer to the Federal Register notices cited in the following subsections.

1. 2010 1-Hour SO2 NAAQS

On June 2, 2010, EPA revised the 1-hour primary SO2 NAAQS to an hourly standard of 75 parts per billion (ppb) based on a 3-year average of the annual 99th percentile of 1-hour daily maximum concentrations.¹⁷ States were required to submit infrastructure SIP submissions for the 2010 1-hour SO2 NAAQS to EPA no later than June 2, 2013. Missouri submitted an infrastructure SIP submission for the 2010 1-hour SO2 NAAQS on July 08, 2013. This proposed action only addresses the prong 4 element of that submission.¹⁸

¹⁷ See 75 FR 35520 (June 22, 2010).

¹⁸ The other portions of Missouri's July 08, 2013, SO2 infrastructure submission are being addressed in a separate EPA action. See the docket for EPA-R07-OAR-2017-0515.

2. 2010 1-Hour NO2 NAAQS

On January 22, 2010, EPA promulgated a new 1-hour primary NAAQS for NO2 at a level of 100 ppb, based on a 3-year average of the 98th percentile of the yearly distribution of 1-hour daily maximum concentrations.¹⁹ States were required to submit infrastructure SIP submissions for the 2010 1-hour NO2 NAAQS to EPA no later than January 22, 2013. Missouri submitted infrastructure SIP submissions for the 2010 1-hour NO2 NAAQS on April 30, 2013. This proposed action only addresses the prong 4 element of those submissions.²⁰

¹⁹ See 75 FR 6474 (February 9, 2010).

²⁰ The other portions for Missouri's April 30, 2013, NO2 infrastructure submissions are being addressed in a separate EPA action. See the docket for EPA-R07-OAR-2017-0268.

3. 2012 PM2.5 NAAQS

On December 14, 2012, EPA revised the annual primary PM2.5 NAAQS to 12 micrograms per cubic meter (μg/m³).²¹ States were required to submit infrastructure SIP submissions for the 2012 PM2.5 NAAQS to EPA no later than December 14, 2015. Missouri submitted an infrastructure SIP submission for the 2012 PM2.5 NAAQS on October 14, 2015. This proposed action only addresses the prong 4 element of that submission.²²

²¹ See 78 FR 3086 (January 15, 2013).

²² The other portions of Missouri's December 9, 2015, PM2.5 infrastructure submission are being addressed in separate EPA actions. See the docket for EPA-R07-OAR-2017-0513.

4. 2008 8-Hour Ozone NAAQS

On March 12, 2008, EPA revised the 8-hour Ozone NAAQS to 0.075 parts per million.²³ States were required to submit infrastructure SIP submissions for the 2008 8-hour Ozone NAAQS to EPA no later than March 12, 2011. Missouri submitted an infrastructure SIP for the 2008 8-hour Ozone NAAQS on July 8, 2013. This proposed action only addresses the prong 4 element of that submission.²⁴

²³ See 73 FR 16436 (March 27, 2008).

²⁴ The other portions of Missouri's July 8, 2013, ozone infrastructure SIP submission are being addressed in a separate EPA action. See the docket for EPA-R07-OAR-2015-0356.

II. What are the prong 4 requirements?

The prong 4 requirement of CAA section 110(a)(2)(D)(i)(II) requires a state's implementation plan to contain provisions prohibiting sources in that state from emitting pollutants in amounts that interfere with any other state's efforts to protect visibility under part C of the CAA (which includes sections 169A and 169B). On September 13, 2013, the EPA issued Guidance on the Infrastructure State Implementation Plan (SIP) Elements Under Clean Air Act Sections 110(a)(1) and 110(a)(2) (“2013 Guidance”).²⁵ EPA developed this document to provide states with guidance for infrastructure SIPs for any new or revised NAAQS. The 2013 Guidance states that the prong 4 requirements are satisfied by an approved SIP provision that EPA has found to adequately address any contribution of that state's sources that impacts the visibility program requirements in other states. The 2013 Guidance also states that EPA interprets this prong to be pollutant-specific, such that the infrastructure SIP submission need only address the potential for interference with protection of visibility caused by the pollutant (including precursors) to which the new or revised NAAQS applies.

²⁵ “Guidance on the Infrastructure State Implementation Plan (SIP) Elements Under Clean Air Act Sections 110(a)(1) and 110(a)(2); Memorandum from Stephen D. Page, September 13, 2013.

The 2013 Guidance lays out how a state's infrastructure SIP may satisfy prong 4. One way that a state can meet the requirements is via confirmation in its infrastructure SIP submission that the state has an approved regional haze SIP that fully meets the requirements of 40 CFR 51.308 or 51.309. 40 CFR 51.308 and 51.309 specifically require that a state participating in a regional planning process include all measures needed to achieve its apportionment of emission reduction obligations agreed upon through that process. A fully approved regional haze SIP will ensure that emissions from sources under an air agency's jurisdiction are not interfering with measures required to be included in other air agencies' plans to protect visibility.

Alternatively, in the absence of a fully approved regional haze SIP, a state may meet the requirements of prong 4 through a demonstration in its infrastructure SIP submission that emissions within its jurisdiction do not interfere with other air agencies' plans to protect visibility. Such an infrastructure SIP submission would need to include measures to limit visibility-impairing pollutants and ensure that the reductions conform with any mutually agreed regional haze RPGs for mandatory Class I areas in other states.

III. What is EPA's analysis of how Missouri addressed prong 4 and regional haze?

Each of Missouri's infrastructure SIP submittals (2008 8-hour Ozone, 2010 1-hour NO2, 2010 1-hour SO2, and 2012 annual PM2.5) relied on the State having a fully approved regional haze SIP to satisfy its prong 4 requirements. However, at the time of those submittals, EPA had not fully approved Missouri's regional haze SIP, as the Agency issued a limited disapproval of the State's original regional haze plan on June 7, 2012. As detailed earlier in this notice, EPA is proposing to convert EPA's limited approval/limited disapproval of Missouri's regional haze plan to a full approval because final approval of Missouri's intended SIP revision relying on CSAPR pursuant to 40 CFR 51.308(e)(4) would correct the deficiencies that led to EPA's limited approval/limited disapproval of the State's regional haze SIP. Because a state may satisfy prong 4 requirements through a fully approved regional haze SIP, EPA is therefore also proposing to approve the prong 4 portion of Missouri's 2010 1-hour NO2, 2010 1-hour SO2, 2012 annual PM2.5, and 2008 8-hour Ozone infrastructure SIP submissions.

IV. Proposed Action

As described above, EPA is proposing to take the following actions: (1) Approve the portion of Missouri's September 5, 2014 Five-year Progress Report for the State of Missouri Regional Haze Plan which, as clarified by the July 31, 2017 letter, identified the state's change from reliance on CAIR to a reliance on the CSAPR FIP for certain regional haze requirements; (2) convert EPA's limited approval/limited disapproval of Missouri's regional haze plan to a full approval; and (3) approve the state's infrastructure SIP submissions addressing the CAA prong 4 requirements for the 2008 Ozone, 2012 PM2.5, 2010 NO2, and 2010 SO2 NAAQS.

V. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Administrative practice and procedure, Air pollution control, Incorporation by reference, Intergovernmental relations, Nitrogen dioxide, Ozone, Particulate matter, Reporting and recordkeeping requirements, Sulfur oxides.

Dated: April 17, 2018.
Karen A. Flournoy,
Acting Regional Administrator, Region 7.

For the reasons stated in the preamble, EPA proposes to amend 40 CFR part 52 as set forth below:

PART 52—APPROVAL AND PROMULGATION OF IMPLEMENTATION PLANS

1. The authority citation for part 52 continues to read as follows:

Authority: 42 U.S.C. 7401 et seq.

Subpart AA—Missouri

2. In § 52.1320 the table in paragraph (e) is amended by revising entry (70), and adding entry (74) in numerical order.

The revision and addition reads as follows:

§ 52.1320 Identification of plan.

* * * * *

(e)* * *

EPA-Approved Missouri Nonregulatory SIP Provisions
Name of nonregulatory SIP revision | Applicable geographic or nonattainment area | State submittal date | EPA approval date | Explanation
* * * * * * *
(70) State Implementation Plan (SIP) Revision for Regional Haze (2014 Five-Year Progress Report) | Statewide | 9/5/2014 | [date of final publication in the Federal Register] [Final rule Federal Register citation] | Missouri submitted a clarification letter to its Five-year Progress Report on July 31, 2017 that is part of this action. [EPA-R07-OAR-2015-0581; FRL-9949-68-Region 7]; [EPA-R07-OAR-2018-0211; FRL-9977-27-Region 7.]
* * * * * * *
(74) Sections 110(a)(2) Infrastructure Prong 4 Requirements for the 2008 Ozone, 2010 Nitrogen Dioxide, 2010 Sulfur Dioxide, and the 2012 Fine Particulate Matter NAAQS | Statewide | 7/8/2013; 8/30/2013; 7/8/2013; 10/14/2015 | [date of final publication in the Federal Register] [Final rule Federal Register citation] | This action approves the following CAA elements: 110(a)(2)(D)(i)(II)—prong 4. [EPA-R07-OAR-2018-0211; FRL-9977-27-Region 7.]

3. Amend § 52.1339 by revising Paragraph (a) and removing paragraphs (c) through (e) to read as follows:

§ 52.1339 Visibility protection

(a) The requirements of section 169A of the Clean Air Act are met because the regional haze plan submitted by Missouri on August 5, 2009, and supplemented on January 30, 2012, in addition to the 5-year progress report submitted on September 5, 2014, and supplemented by state letter on July 31, 2017, includes fully approvable measures for meeting the requirements of the Regional Haze Rule including the requirements of 40 CFR 51.308(d)(3) and 51.308(e) with respect to emissions of NOX and SO2 from electric generating units.

* * * * *

[FR Doc. 2018-09211 Filed 5-2-18; 8:45 am]

BILLING CODE 6560-50-P